DEPARTMENT OF COMMERCE

[Docket No. 151109999-6121-02]

Privacy Act of 1974, New System of Records

AGENCY: National Oceanic and Atmospheric Administration, U.S. Department of Commerce.

ACTION: Notice of a New Privacy Act System of Records: COMMERCE/NOAA-22, NOAA Health Services Questionnaire (NHSQ) and Tuberculosis Screening Document (TSD).

SUMMARY: The Department of Commerce publishes this notice to announce the effective date of a Privacy Act System of Records entitled COMMERCE/NOAA-22, NOAA Health Services Questionnaire (NHSQ) and Tuberculosis Screening Document (TSD).

DATES: The system of records becomes effective on March 1, 2016.

ADDRESSES: For a copy of the system of records, please mail requests to: Sarah Brabson, NOAA Office of the Chief Information Officer, Room 9856, 1315 East-West Highway, Silver Spring, MD 20910.

FOR FURTHER INFORMATION CONTACT: CAPT P. Jane Powers, 2002 SE Marine Science Drive, Newport, OR, 97365.

SUPPLEMENTARY INFORMATION: On January 16, 2016, the Department of Commerce published a notice in the Federal Register, entitled “COMMERCE/NOAA-22, NOAA Health Services Questionnaire (NHSQ) and Tuberculosis Screening Document (TSD),” requesting comments to the new system of records (81 FR 2841). The January 16, 2016 notice stated that the new system of records will become effective on the date of publication of a subsequent notice unless comments are received. No comments were received in response to the request for comments. Accordingly, by this notice, the Department of Commerce is adopting the proposed changes to the system as final without changes effective March 1, 2016.

Dated: February 24, 2016.
Michael J. Toland,
Department of Commerce, Freedom of Information and Privacy Act Officer.

[FR Doc. 2016-04483 Filed 2-29-16; 8:45 am]

BILLING CODE 3510-22-P